DEPARTMENT OF JUSTICE

[OMB Number 1105-0109]

Agency Information Collection Activities; Proposed eCollection eComments Requested; Extension of a Previously Approved Collection; Procurement Collusion Strike Force Complaint Form

AGENCY: U.S. Marshals Service, Department of Justice.

ACTION: 60-Day notice.

SUMMARY: The U.S. Marshals Service (USMS), Department of Justice (DOJ), will be submitting the following information collection request to the Office of Management and Budget (OMB) for review and approval in accordance with the Paperwork Reduction Act of 1995.

DATES: Comments are encouraged and will be accepted for 60 days until October 2, 2023.

FOR FURTHER INFORMATION CONTACT: If you have additional comments especially on the estimated public burden or associated response time, suggestions, or need a copy of the proposed information collection instrument with instructions or additional information, please contact Sarah Oldfield, Deputy Chief Legal Advisor—Criminal, U.S. Department of Justice, Antitrust Division, 950 Pennsylvania Ave. NW, Room 3311, Washington, DC 20530, email: sarah.oldfield@usdoj.gov; telephone: 202-305-8915.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: The Department of Justice formed the Procurement Collusion Strike Force (PCSF) in 2019, to focus on deterring, detecting, investigating, and prosecuting antitrust crimes and related frauds involving government procurement, grants, and program funding. The PCSF members include the Department's Antitrust Division, multiple U.S. Attorneys' offices, the Federal Bureau of Investigation, and the Inspectors General for various Federal agencies. The collection of information through the PCSF complaint form facilitates reporting of information regarding potential antitrust crimes affecting government procurement.

Overview of This Information Collection

1. Type of Information Collection: Extension of a previously approved collection.

2. The Title of the Form/Collection: Procurement Collusion Strike Force Complaint Form.

3. The agency form number, if any, and the applicable component of the Department sponsoring the collection: Form number: None. Component: U.S. Marshals Service, U.S. Department of Justice.

4. Affected public who will be asked or required to respond, as well as the obligation to respond: Affected Public: Individuals or households. The obligation to respond is voluntary.

5. An estimate of the total number of respondents and the amount of time estimated for an average respondent to respond: The estimated number of respondents for this collection is 500. The time per response is 30 minutes to complete the form.

6. An estimate of the total annual burden (in hours) associated with the collection: The total annual burden hours for this collection is 250 hours.

7. An estimate of the total annual cost burden associated with the collection, if applicable: $0.

Total Burden Hours
Activity | Number of respondents | Frequency | Total annual responses | Time per response (minutes) | Total annual burden (hours)
Procurement Complaint Form | 500 | 1/annually | 500 | 30 | 250
Unduplicated Totals | 500 |  | 500 |  | 250

If additional information is required contact: Darwin Arceo, Department Clearance Officer, United States Department of Justice, Justice Management Division, Policy and Planning Staff, Two Constitution Square, 145 N Street NE, 4W-218, Washington, DC.

Dated: July 27, 2023.
Darwin Arceo,
Department Clearance Officer for PRA, U.S. Department of Justice.

[FR Doc. 2023-16290 Filed 7-31-23; 8:45 am]

BILLING CODE 4410-18-P